DEPARTMENT OF COMMERCE

National Oceanic and Atmospheric Administration

Agency Information Collection Activities; Submission to the Office of Management and Budget (OMB) for Review and Approval; Comment Request; Alaska American Fisheries Act (AFA) Permits

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before August 15, 2025.

ADDRESSES: Interested persons are invited to submit written comments to Adrienne Thomas, NOAA PRA Officer, at NOAA.PRA@noaa.gov. Please reference OMB Control Number 0648-0393 in the subject line of your comments. All comments received are part of the public record and will generally be posted on https://www.regulations.gov without change. Do not submit Confidential Business Information or otherwise sensitive or protected information.

FOR FURTHER INFORMATION CONTACT: Requests for additional information or specific questions related to collection activities should be directed to Doug Shaftel, National Marine Fisheries Service, P.O. Box 21668, Juneau, AK 99802-1668 (doug.shaftel@noaa.gov; 907-586-7228).

SUPPLEMENTARY INFORMATION:

I. Abstract

This is a request for renewal of an approved information collection. The National Marine Fisheries Service (NMFS), Alaska Region, is the sponsor of this information collection that contains applications for permits and transfers necessary for NMFS to manage the Bering Sea and Aleutian Islands (BSAI) pollock fishery under the American Fisheries Act (AFA).

NMFS manages the BSAI pollock fishery under the authority of the Magnuson-Stevens Fishery Conservation and Management Act (16 U.S.C. 1801 et seq.) and AFA (16 U.S.C. 1851). The regulations implementing the AFA Program are at 50 CFR part 679, subpart F. The reporting requirements at 50 CFR part 679 form the basis for this collection of information.

The AFA was signed into law in October 1998. The purpose of the AFA was to tighten U.S. ownership standards that had been exploited under the Anti-Reflagging Act, and to provide the BSAI pollock fleet the opportunity to conduct their fishery in a more rational manner while protecting non-AFA participants in the other fisheries. The AFA established sector allocations in the BSAI pollock fishery, determined eligible vessels and processors, allowed the formation of cooperatives, set limits on the participation of AFA vessels in other fisheries, and imposed special catch weighing and monitoring requirements on AFA vessels.

Any vessel used to engage in directed fishing for a non-western Alaska community development quota (non-CDQ) allocation of pollock in the Bering Sea and any shoreside processor, stationary floating processor, or mothership that receives pollock harvested in a non-CDQ directed pollock fishery in the Bering Sea must have a valid AFA permit on board the vessel or at the facility location at all times while non-CDQ pollock is being harvested or processed.

Permanent AFA permits (AFA catcher vessel, AFA catcher/processor, AFA mothership, and AFA inshore processor) for the BSAI pollock fishery had a one-time application deadline of December 1, 2000, and were issued with an indefinite expiration date. Therefore, except for participants that require annual or replacement permits, all AFA entities required to have a permit are already permitted.

The type of information collected includes information on the applicants, transferors, transferees, permits, vessels, and Chinook salmon prohibited species catch (PSC) transfer data. This information collection contains the following AFA permitting and transfer requirements:

• The application for an AFA Permit: Rebuilt, Replacement, or Removed Vessel is submitted by an owner of an AFA vessel to notify NMFS the vessel has been rebuilt; to request an AFA permit for a replacement catcher vessel, catcher/processor, or mothership; or to request removal of an AFA catcher vessel that is a member of an inshore cooperative and assign its catch history to another vessel or vessels in the same cooperative. The vessel owner submits this application only when needed, subject to deadlines.

• The Application for AFA Inshore Catcher Vessel Cooperative Permit is submitted annually by each AFA inshore catcher vessel cooperative to obtain an AFA Inshore Catcher Vessel Cooperative Permit and identify the vessels and processors that will be participating in the BSAI pollock fishery prior to the start of each fishing year. NMFS uses the information obtained in this permit to identify the universe of participating vessels and processors in the BSAI pollock fishery prior to start of each fishing year.

• The AFA Inshore Vessel Contract Fishing Notification is submitted by an AFA inshore cooperative that intends to contract with a non-member vessel to harvest a portion of the cooperative's annual pollock allocation. The purpose of this notification is to assist cooperatives with understanding how their catch is accounted for and ensure that NMFS knows which vessels may be reporting their catch using an alternative cooperative ID.

• The Application for Approval as an Entity to Receive Transferable Chinook Salmon PSC Allocation is submitted by an entity representing the catcher/processor sector or the mothership sector to request approval to receive transferable Chinook salmon PSC allocations on behalf of members of the sector. Once approved, an entity is not required to reapply for or renew its status. Entities sometimes submit amendments to update contact and other information related to the entity and its members. NMFS uses the information submitted in this application to identify the legally authorized representative for purposes of conducting Chinook Salmon PSC transfers.

• The Application for Transfer of Bering Sea Chinook Salmon PSC Allocations is submitted by an authorized representative of the catcher/processor sector, the mothership sector, an inshore cooperative, or a CDQ group to transfer Chinook salmon PSC allocations to another entity's account. NMFS uses the information submitted in this application to identify the transferor and transferee and ensure that the there is sufficient Chinook salmon available in the transferor's account.

II. Method of Collection

The information is collected primarily by mail, fax, and delivery. The Application for Transfer of Bering Sea Chinook Salmon PSC Allocations and the Application for Approval as an Entity to Receive Transferable Chinook Salmon PSC Allocation may be submitted online through eFISH on the NMFS Alaska Region website at https://alaskafisheries.noaa.gov/webapps/efish/login. The applications are available as fillable PDFs on the NMFS Alaska Region website at https://www.fisheries.noaa.gov/permit/american-fisheries-act-pollock-applications-and-forms.

III. Data

OMB Control Number: 0648-0393.

Form Number(s): None.

Type of Review: Regular submission (extension of a current information collection).

Affected Public: Individuals or households; Business or other for-profit organizations; Not-for-profit institutions.

Estimated Number of Respondents: 27.

Estimated Time per Response: AFA Permit: Rebuilt, Replacement, or Removed Vessel Application, 1 hour; Application for Transfer of Bering Sea Chinook Salmon PSC Allocations, 1 hour; Application for AFA Inshore Catcher Vessel Cooperative Permit, 2 hours; AFA Inshore Vessel Contract Fishing Notification, 4 hours; Application for Approval as an Entity to Receive Transferable Chinook Salmon PSC Allocation, 8 hours.

Estimated Total Annual Burden Hours: 246 hours.

Estimated Total Annual Cost to Public: $395 in recordkeeping and reporting costs.

Respondent's Obligation: Required to Obtain or Retain Benefits; Mandatory.

Legal Authority: Magnuson-Stevens Fishery and Conservation Act; American Fisheries Act.

IV. Request for Comments

We are soliciting public comments to permit the Department/Bureau to: (a) evaluate whether the proposed information collection is necessary for the proper functions of the Department, including whether the information will have practical utility; (b) evaluate the accuracy of our estimate of the time and cost burden for this proposed collection, including the validity of the methodology and assumptions used; (c) evaluate ways to enhance the quality, utility, and clarity of the information to be collected; and (d) minimize the reporting burden on those who are to respond, including the use of automated collection techniques or other forms of information technology.

Comments that you submit in response to this notice are a matter of public record. We will include or summarize each comment in our request to OMB to approve this information collection request. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Compliance Officer, Office of the Under Secretary for Economic Affairs, Commerce Department.

[FR Doc. 2025-11072 Filed 6-13-25; 8:45 am]

BILLING CODE 3510-22-P